FEDERAL COMMUNICATIONS COMMISSION

[Report No. 2640]

Petitions for Reconsideration and Clarification of Action in Rulemaking Proceedings

December 23, 2003.

Petitions for Reconsideration and Clarification have been filed in the Commission's rulemaking proceedings listed in this public notice and published pursuant to 47 CFR section 1.429(e). The full text of this document is available for viewing and copying in Room CY-A257, 445 12th Street, SW., Washington, DC or may be purchased from the Commission's copy contractor, Qualex International, (202) 863-2893. Oppositions to these petitions must be filed by January 21, 2004. See section 1.4(b)(1) of the Commission's rules (47 CFR 1.4(b)(1)). Replies to an opposition must be filed within 10 days after the time for filing oppositions have expired.

Subject: In the Matter of the Table of Allotments FM Broadcast Stations (Fortuna Foothills, Arizona and Wellton, Arizona) (MB Docket No. 03-163, RM-10734).

Number of Petitions Filed: 1.

Subject: In the Matter of the Establishment of Policies and Service Rules for the Non-Geostationary Satellite Orbit, Fixed Satellite Service in the Ka-Band (IB Docket No. 02-19).

Number of Petitions Filed: 1.

Subject: In the Matter of the Implementation of the Pay Telephone Reclassification and Compensation Provisions of the Telecommunications Act of 1996 (CC Docket No. 96-128).

Number of Petitions Filed: 3.

Subject: In the Matter of the FM Table of Allotments FM Broadcast Stations (Charles Town, West Virginia and Stephens City, Virginia) (MB Docket No. 03-12, RM-10627).

Number of Petitions Filed: 1.

William F. Caton,
Deputy Secretary.

[FR Doc. 04-105 Filed 1-5-04; 8:45 am]

BILLING CODE 6712-01-M